INTERNATIONAL TRADE COMMISSION

[Investigation No. 731-TA-244 (Second Review)]

Natural Bristle Paint Brushes From China

Determination

On the basis of the record ¹ developed in the subject five-year review, the United States International Trade Commission (Commission) determines, pursuant to section 751(c) of the Tariff Act of 1930 (19 U.S.C. 1675(c)) (the Act), that revocation of the antidumping duty order on natural bristle paint brushes from China would be likely to lead to continuation or recurrence of material injury to an industry in the United States within a reasonably foreseeable time.

¹ The record is defined in sec. 207.2(f) of the Commission's Rules of Practice and Procedure (19 CFR 207.2(f)).

Background

The Commission instituted this review on May 3, 2004 (69 FR 24191) and determined on August 6, 2004 that it would conduct an expedited review (69 FR 51474, August 19, 2004).

The Commission transmitted its determination in this review to the Secretary of Commerce on November 9, 2004. The views of the Commission are contained in USITC Publication No. 3733 (November 2004), entitled Natural Bristle Paint Brushes from China: Investigation No. 731-TA-244 (Second Review).

Issued: November 16, 2004.
By order of the Commission.
Marilyn R. Abbott,
Secretary to the Commission.

[FR Doc. 04-25733 Filed 11-18-04; 8:45 am]

BILLING CODE 7020-02-P